DEPARTMENT OF DEFENSE

Department of the Navy

[DoD-USN-2007-0030]

Privacy Act of 1974; System of Records

AGENCY: Department of the Navy, DoD.

ACTION: Notice to amend a system of records.

SUMMARY: The Department of the Navy is amending a system of records notice in its existing inventory of record systems subject to the Privacy Act of 1974, (5 U.S.C. 552a), as amended.

DATES: This proposed action will be effective without further notice on June 4, 2007 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: April 30, 2007.
L.M. Bynum,
Alternate OSD Federal Register Liaison Officer, Department of Defense.

N12792-7

System name:

Drug-Free Workplace Program Records (May 7, 2002, 67 FR 30652).

Changes:

System number:

Delete “N12792-7” and replace with “NM12792-7.”

* * * * *

System location:

Delete entry and replace with “Records are located at the local Navy/Marine Corps activity, local servicing Human Resources Offices, Human Resource Service Center Regional Offices, or the Office of Civilian Human Resources.”

* * * * *

System manager(s) and address:

Delete entry and replace with “Drug Program Manager, Office of Civilian Human Resources, Human Resource Service Center Southwest, 525 B Street, Suite 600, San Diego, CA 92101-4418.”

* * * * *

Drug-Free Workplace Program Records.

System location:

Records are located at the local Navy/Marine Corps activity, local servicing Human Resources Offices, Human Resource Service Center Regional Offices, or the Office of Civilian Human Resources.

Categories of individuals covered by the system:

Civilian employees and applicants for employment with the Department of the Navy.

Categories of records in the system:

Records related to selection, notification, testing of employees and applicants, urine specimens, drug test results, collection authentication and chain of custody documents.

Authority for maintenance of the system:

Pub. L. 100-71, 5 U.S.C. 7301; 21 U.S.C. 812 (Schedule of Controlled Substances); and E.O. 12564, Drug-Free Federal Workplace; and Department of Health and Human Services Mandatory Guidelines for Federal Workplace Drug Testing Programs; and E.O. 9397 (SSN).

Purpose(s):

The system is established to maintain records relating to the selection and testing of Department of the Navy employees, and applicants for employment, for use of illegal drugs and drugs identified in Schedules I and II of 21 U.S.C. 812 (Schedule of Controlled Substances).

The records are also used by the Medical Review Officer; the administrator of any employee Assistance Program in which the employee is receiving counseling or treatment or is otherwise participating; and supervisory or management officials within the employee's agency having authority to take adverse personnel action against such employee.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

In order to comply with the provisions of 5 U.S.C. 7301, the DoD `Blanket Routine Uses' published at the beginning of the Navy's compilation do not apply to this system.

To a court of competent jurisdiction where required by the United States Government to defend against any challenge against any adverse personnel action.

Note: Record of the identity, diagnosis, prognosis, or treatment of any client/patient, irrespective of whether or when he ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2. The results of a drug test of civilian employees may be disclosed only as expressly authorized under 5 U.S.C. 7301. These statutes take precedence over the Privacy Act of 1974, in regard to accessibility of such records except to the individual to whom the record pertains.

Policies and practices for storing, retrieving, accessing, retaining, and disposing of records in the system:

Storage:

Paper records in file folders and electronic storage media.

Retrievability:

Records are retrieved by name of employee, applicant for employment, Social Security Number (SSN), specimen I.D. number assigned, or any combination of these.

Safeguards:

Records will be stored in secure containers, e.g., safes, locked filing cabinets, etc. Urine specimens will be stored in appropriate locked storage facilities. Access to such records and specimens is restricted. Chain-of-custory and other procedural and documentary requirements of Pub. L. 100-71 and the Department of Health and Human Services. Guidelines will be followed in collection of urine samples, conducting drug tests, and processing test results. All information contained in computers is password protected.

Retention and disposal:

Negative test records are retained for three years and then destroyed by shredding, burning, or erasure in the case of electronic media. Positive or Non-negative test records are permanently retained. Written records and test results together with urine specimens shall be retained until litigation is complete when the employee challenges or appeals adverse actions. Negative urine specimens are disposed of at the end of the test day.

System manager(s) and address:

Drug Program Manager, Office of Civilian Human Resources, Human Resources Service Center Southwest, 525 B Street, Suite 600, San Diego, CA 92101-4418.

Notification procedure:

Individuals seeking to determine whether this system contains information about themselves should address written inquiries to the Commanding Officer/Commander of the DON activity or the servicing human resources office at which they are or were employed, or at which they made application for employment, and for which they provided a urine specimen for drug testing.

Individuals may furnish their full name, Social Security Number (SSN), the title, series, and grade of the position they occupied or applied for when the drug test was conducted, specimen ID number, and the date of the test.

Record access procedures:

Individuals seeking access to information about themselves contained in this system of records should address written inquiries to the Commanding Officer/Commander of the DON activity or the servicing human resources office at which they are or were employed, or at which they made application for employment, and for which they provided a urine specimen for drug testing.

Individuals may furnish their full name, Social Security Number (SSN), the title, series, and grade of the position they occupied or applied for when the drug test was conducted, specimen ID number, and the date of the test.

Contesting record procedures:

The Navy's rules for accessing records, and for contesting contents and appealing initial agency determinations are published in Secretary of the Navy Instruction 5211.5; 32 CFR part 701; or may be obtained from the system manager.

Record source categories:

Records are obtained from the individual to whom the record pertains; DON or contractor employee involved in the selection, notification, and collection of urine from individuals who are tested; DON or contractor laboratories that test urine samples for the presence of illegal drugs, DON or contractor Medical Review Officers; supervisors and managers and other DON officials engaged in administering the Drug-Free Workplace Program; the Civilian Employee Assistance Program; processing adverse actions based on drug test results; and DON or contractor electronic databases.

Exemptions claimed for the system:

None.

[FR Doc. 07-2195 Filed 5-3-07; 8:45 am]

BILLING CODE 5001-06-M